DEPARTMENT OF STATE

[Public Notice 5381]

Bureau of Educational and Cultural Affairs (ECA); Request for Grant Proposals: Exchange Program for School Principals From Bolivia, Ecuador and Venezuela

Announcement Type: Cooperative Agreement.

Funding Opportunity Number: ECA/A/S/X-06-10.

Catalog of Federal Domestic Assistance Number: 00.000.

Key Dates: Application Deadline: June 1, 2006.

Executive Summary: The Fulbright Teacher Exchange Branch in the Office of Global Educational Programs of the Bureau of Educational and Cultural Affairs (ECA) announces an open competition for an assistance award program to support an exchange program for school principals from Bolivia, Ecuador and Venezuela. Applications may be submitted by U.S. organizations meeting the provisions described in Internal Revenue Code section 26 U.S.C. 501(c)(3). The program will provide an intensive three-week U.S. professional development program for 6-7 qualified secondary school principals from each of the respective countries. The participants will not have visited the U.S. previously and will not speak English; therefore translation should be provided throughout the program.

I. Funding Opportunity Description

I.1. Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

I.2. Purpose

The purpose of the program is to support professional development and regional interaction among principals from Bolivia, Ecuador, and Venezuela so as to strengthen the education systems in their respective countries. Through close collaboration with U.S. educators on topics of leadership, school administration and civic engagement, the principals will gain a deeper understanding of the United States so that they can share their experiences of a diverse democratic society with teachers and students in their home communities. By providing an opportunity for partnerships with U.S. principals, this program will form a basis for productive and lasting relationships and mutual understanding between South American and U.S. educators.

I.3. Program Goals

The proposals should reflect five overall goals: (1) To produce a highly focused regional program that exposes secondary school principals from Bolivia, Ecuador and Venezuela to best practices in leadership and school administration in the United States; (2) to provide a variety of learning formats for them to share, discuss and compare issues of diversity, professional development for teachers, effective use of educational resources, community involvement and civic education in the three South American countries and U.S. secondary schools; (3) to provide opportunities for secondary school principals to gain computer skills; (4) to support collaboration between South American and U.S. principals by arranging ten-day visits to U.S. secondary schools to reinforce academic learning under the previous goals; and (5) to provide participants with opportunities to interact with Americans to gain an awareness and understanding of U.S. culture and society. The overall program content should focus on leadership and administrative strategies that are culturally appropriate and can be implemented in schools with limited resources in South America.

The Bureau of Educational and Cultural Affairs seeks proposals that demonstrate a deep understanding of the local educational systems in Bolivia, Ecuador and Venezuela and of the issues surrounding secondary school management and administration. Proposals should outline practical and feasible follow-on activities that build on the achievements of the program while promoting the continued exchanges of ideas between the participants, their U.S. partners and the U.S. cooperating institution.

I.4. Planning

The cooperating institution should coordinate closely with The Fulbright Teacher Exchange Branch (ECA/A/S/X), the Public Affairs Sections of Embassies Caracas, La Paz and Quito as well as the Fulbright Commission in Quito regarding activities and responsibilities for this program. During the planning phase, the cooperating institution should make one trip to the three countries to conduct a needs assessment in consultation with representatives from the Public Affairs Sections of the U.S. Embassies in La Paz, Quito and Caracas and the Fulbright Commission in Ecuador as well as Ministries of Education and educators in La Paz and Quito. Based on the assessment, the cooperating institution should submit a detailed schedule and program plan for the U.S. based program to the Fulbright Teacher Exchange Branch for approval. For further detailed information, see the Program Objectives, Goals and Implementation (POGI), which is part of this solicitation document.

I.5. In-Country Recruitment and Orientation

The Public Affairs Sections (PAS) of the U.S. Embassies in La Paz and Quito and the Fulbright Commission in Ecuador will recruit and select participants in collaboration with the Ministries of Education. In Venezuela, the Public Affairs Section of the U.S. Embassy may request assistance with the recruitment, selection, and orientation of Venezuelan participants from an on-the-ground non-governmental organization (NGO). The cooperating institution should budget approximately $5,000 for costs associated with sub-contracting with an NGO in Venezuela—to be coordinated with ECA/A/S/X and PAS Caracas. The cooperating institution should develop an application form and publicity materials for use in all three countries.

The Public Affairs Sections and Commission representatives in La Paz and Quito and the designated non-governmental organization in Caracas will conduct a one-day pre-departure orientation for the participants. The cooperating institution should provide background information to these partners in the field about cultural and other practical issues concerning the principals' stay in the U.S., the goals of the school administrator exchange program, the program schedule, packets of materials for the in-country pre-departure orientation workshops and information on comparative school administration and educational models.

The cooperating institution should make certain that participants create an “action plan” for the exchange before they depart from their home countries, outlining individual goals and objectives. “Action planning” should be integrated into both the pre-departure orientation and the U.S. professional development and school visits so that participants may assess their progress toward meeting their goals and objectives when they return home.

I.6. U.S.-Based Professional Development

The three-week program should have three components, all of which should include simultaneous or consecutive Spanish language interpretation: (1) A one-week intensive overview of U.S. public school administration, leadership development seminars and an introduction to the use of the internet to support research and outreach; (2) a ten-day work shadowing portion in which the participants will partner with U.S. secondary school principals. School placements should be made with U.S. administrators who speak fluent Spanish or consecutive translation should be made available; and (3) a two to three day educational and cultural program in Washington, DC.

The program should meet the needs of the Bolivian, Ecuadorian and Venezuelan participants through activities designed by U.S. education specialists with appropriate expertise in public school administration. Time should be allotted for professional activities including “action planning,” school visits, presentations to students, consultations with educational and community organizations, and school board and parent teacher association meetings. The three-week program should also include cultural activities and home hospitality to facilitate interaction among participants and the local community to promote mutual understanding between the people of the United States and the people of Bolivia, Ecuador and Venezuela.

The final site visit to Washington, DC should complement and reinforce the academic and work shadow programs. This visit will include a de-briefing at the Bureau of Educational and Cultural Affairs and the Bureau of Western Hemispheric Affairs at the Department of State, meetings at professional and educational organizations, and visits to educational and cultural sites. Simultaneous or consecutive translation must be provided.

Administration and management of all phases of the program will be the responsibility of the U.S. cooperating institution. The U.S. institution is responsible for domestic and international travel arrangements and simultaneous or consecutive translation in Spanish during the program. The U.S. cooperating institution is also responsible for funding lodging, food, and allowances for participants while in the U.S.

I.7. Follow-On Projects

The final stage of this program will consist of follow-on projects between participants and their U.S. partner school administrators that will build upon the school management practices they learned in the U.S. The U.S. cooperating institution will be responsible for developing follow-on projects in close collaboration with the Fulbright Teacher Exchange Branch of the Department of State and Public Affairs Sections of U.S. Embassies in La Paz, Caracas, and Quito and the Fulbright Commission in Ecuador. The cooperating institution will assist program participants and U.S. principals to plan and organize projects to ensure long-term partner school collaboration.

I.8. Budget Guidelines

Applicants must submit a comprehensive budget for the entire program. There must be a summary budget as well as breakdowns reflecting both administrative and program budgets. Applicants may submit separate sub-budgets for each program component, phase, location, or activity to provide clarification. The cost to the Bureau for the program, including the work shadow portion and the in-country follow-on activities, may not exceed $250,000. One grant will be awarded to conduct the school administrator development activities, work shadow portion and follow on for the three countries.

In a cooperative agreement, ECA/A/S/X will be substantially involved in the program activities mentioned above and beyond routine grant monitoring. ECA/A/S/X activities and responsibilities for this program are as follows:

• Formulation of program policy;

• Clearing texts and program guidelines for publication;

• Oversight of the content for the pre-departure orientation and U.S.-based program including the review and approval of school program schedules and Washington, DC de-briefing.

II. Award Information

Type of Award: Cooperative Agreement.

Fiscal Year Funds: 2006.

Approximate Total Funding: $250,000.

Approximate Number of Awards: One.

Approximate Average Award: $250,000.

Anticipated Award Date: September 1, 2006.

Anticipated Project Completion Date: September 2008.

Additional Information

Pending successful implementation of this program and the availability of funds in subsequent fiscal years, it is ECA's intent to renew this grant for two additional fiscal years, before openly competing it again.

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be for allowable direct or indirect costs. For accountability, you must maintain written records to support all costs that are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.2. Other Eligibility Requirements

Bureau grant guidelines require that organizations with less than four years experience in conducting international exchanges be limited to $60,000 in Bureau funding. ECA anticipates awarding one grant, in an amount of $250,000, to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information To Request an Application Package

Please contact the Fulbright Teacher Exchange Branch, ECA/A/S/X, Room 349, U.S. Department of State, SA-44, 301 4th Street, SW., Washington, DC 20547, (Tel.) 202-453-8877, (Fax) 202-453-8890, and e-mail, saritime@state.gov to request a Solicitation Package. Please refer to the Funding Opportunity Number ECA/A/S/X-06-10 at the top of this announcement when making your request. Alternatively, an electronic application package may be obtained from grants.gov. Please see section IV.3f. for further information.

The Solicitation Package contains the Proposal Submission Instruction (PSI) document, which consists of required application forms, and standard guidelines for proposal preparation.

Please specify Mary Ellen Sariti and refer to the Funding Opportunity Number ECA/A/S/X-06-10 at the top of this announcement on all other inquiries and correspondence.

IV.2. To Download a Solicitation Package Via Internet

The entire Solicitation Package may be downloaded from the Bureau's Web site at http://exchanges.state.gov/education/rfgps/menu.htm or from the grants.gov Web site at http://www.grants.gov. Please read all information before downloading.

IV.3. Content and Form of Submission

Applicants must follow all instructions in the Solicitation Package. The original and eight copies of the application should be sent per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711.

Please ensure that your DUNS number is included in the appropriate box of the SF-424 which are part of the formal application package.

IV.3b. All proposals must contain an executive summary, proposal narrative and budget.

Please refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, recordkeeping, reporting and other requirements.

The U.S. cooperating institution will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. Fax: (202) 401-9809.

Please refer to Solicitation Package for further information.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

The U.S. cooperating institution will be required to provide reports analyzing their evaluation findings to the Bureau in their regular program reports. All data collected, including survey responses and contact information, must be maintained for a minimum of three years and provided to the Bureau upon request.

Describe your plans for: i.e., sustainability, overall program management, staffing, coordination with ECA and PAS or any other requirements etc.

IV.3e. Please take the following information into consideration when preparing your budget:

IV.3e.1. Applicants must submit a comprehensive budget for the entire program. The grant awarded will not exceed $250,000. There must be a summary budget as well as breakdowns reflecting both administrative and program budgets.

Applicants may provide separate sub-budgets for each program component, phase, location, or activity to provide clarification.

IV.3e.2. Allowable costs for the program include the following:

(1) International and domestic travel.

(2) U.S. ground transportation.

(3) Participant maintenance (3 weeks).

(4) Professional development seminars (instruction, materials, logistics).

(5) Stipends for U.S. host principals.

(6) Cultural activities.

(7) Book allowance/shipping.

(8) Cooperating institution administrative costs.

(9) Follow-on programming.

Please refer to the Solicitation Package for complete budget guidelines and formatting instructions.

IV.3f. Application Deadline and Methods of Submission:

Application Deadline Date: June 1, 2006.

Reference Number: ECA/A/S-06-10.

Methods of Submission:

Applications may be submitted in one of two ways:

1. In hard-copy, via a nationally recognized overnight delivery service (i.e., DHL, Federal Express, UPS, Airborne Express, or U.S. Postal Service Express Overnight Mail, etc.), or

2. Electronically through http://www.grants.gov. Along with the Project Title, all applicants must enter the above Reference Number in Box 11 on the SF-424 contained in the mandatory Proposal Submission Instructions (PSI) of the solicitation document.

IV.3f.2. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight copies of the application should be sent to: U.S. Department of State, SA-44, Bureau of Educational and Cultural Affairs, Ref.: ECA/A/S/X-06-10, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs Sections at the U.S. embassies for their review.

IV.3f.2. Submitting Electronic Applications. Applicants have the option of submitting proposals electronically through Grants.gov (http://www.grants.gov). Complete solicitation packages are available at Grants.gov in the “Find” portion of the system. Please follow the instructions available in the ‘Get Started’ portion of the site (http://www.grants.gov/GetStarted).

Applicants have until midnight (12 a.m.) of the closing date to ensure that their entire application has been uploaded to the grants.gov site. Applications uploaded to the site after midnight of the application deadline date will be automatically rejected by the grants.gov system, and will be technically ineligible.

Applicants will receive a confirmation e-mail from grants.gov upon successful submission of an application. ECA will not notify you upon receipt of electronic applications.

IV.3g. Intergovernmental Review of Applications. Executive Order 12372 does not apply to this program.

V. Application Review Information

V.1. Review Process

The Bureau will review all proposals for technical eligibility. Proposals will be deemed ineligible if they do not fully adhere to the guidelines stated herein and in the Solicitation Package. The program office, as well as the Public Diplomacy sections overseas, where appropriate will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Quality of the Program Idea and Program Planning: Proposals should exhibit originality, substance, precision, and relevance to the Bureau's mission. Proposals should demonstrate substantive expertise in professional development for secondary school administrators. Proposals should also illustrate effective use of community and regional resources to enhance the educational and cultural experiences of participants. Proposals should focus on leadership and administrative strategies appropriate for implementation in schools in Bolivia, Ecuador and Venezuela. Proposals should provide a detailed calendar and relevant work plan and demonstrate how the institution will meet the program's objectives during the U.S. based training.

2. Ability To Achieve Program Objectives: Objectives should be reasonable, feasible, and flexible. Proposals should clearly demonstrate how the cooperating institution will meet the program's objectives and plan.

3. Multiplier Effect/Impact: Proposed programs should strengthen long-term mutual understanding, including maximum sharing of information and establishment of long-term linkages between U.S. and South American schools.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity: Proposed personnel and institutional resources should be adequate and appropriate to achieve the program or project's goals.

6. Institution's Record/Ability: Proposals should demonstrate an institutional record of successful exchange programs, including responsible fiscal management and full compliance with all reporting requirements for past Bureau grants as determined by Bureau Grants Staff. The Bureau will consider the past performance of prior recipients and the demonstrated potential of new applicants.

7. Follow-on Activities: Proposals should provide a plan for continued follow-on activity ensuring that Bureau supported programs are not isolated events.

8. Project Evaluation: Proposals should include a plan to evaluate the activity's success, both as the activities unfold and at the end of the program. A draft survey questionnaire or other technique plus description of a methodology to use to link outcomes to original project objectives are recommended.

9. Cost-Effectiveness and Cost-Sharing: The overhead and administrative components of the proposal, including salaries and honoraria, should be kept as low as possible. All other items should be necessary and appropriate. Proposals should maximize cost sharing through other private sector support as well as institutional direct funding contributions.

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants

http://exchanges.state.gov/education/grantsdiv/terms.htm#articleI.

VI.3. Reporting Requirements

You must provide ECA with a hard copy original plus two copies of the final program and financial report no more than 90 days after the expiration of the award.

U.S. cooperating institutions will be required to provide reports analyzing their evaluation findings to the Bureau in their regular program reports. [Please refer to IV. Application and Submission Instructions (IV.3.d.3)] above for Program Monitoring and Evaluation information.

All data collected, including survey responses and contact information, must be maintained for a minimum of three years and provided to the Bureau upon request.

All reports must be sent to the ECA Grants Officer and ECA Program Officer listed in the final assistance award document.

VI.4. Optional Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. The ECA Program Officer and partners abroad must receive final schedules for in country and U.S. activities at least seven workdays prior to the official opening of the activity.

VII. Agency Contacts

For questions about this announcement, contact: Mary Ellen Sariti, Fulbright Teacher Exchange Branch, Office of Global Educational Programs, ECA/A/S/X, Room 349, ECA/A/S/X-06-10, U.S. Department of State, SA-44, 301 4th Street, SW., Washington, DC 20547, (Tel.) 202-453-8877 (Fax.) 202-453-8890, saritime@state.gov.

All correspondence with the Bureau concerning this RFGP should reference the above title and number ECA/A/S/X-06-10.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 19, 2006.
C. Miller Crouch,
Principal Deputy Assistant Secretary for Educational and Cultural Affairs, Department of State.

[FR Doc. E6-6183 Filed 4-24-06; 8:45 am]

BILLING CODE 4710-05-P